DEPARTMENT OF ENERGY

Federal Energy Regulatory Commission

[Docket Nos. CP02-396-000, CP02-397-000 and CP02-398-000]

Greenbrier Pipeline Company, LLC; Notice of Applications

July 8, 2002.

Take notice that on July 3, 2002, Greenbrier Pipeline Company, LLC (Greenbrier), 120 Tredegar Street, Richmond, Virginia 2319, filed applications pursuant to section 7(c) of the Natural Gas Act (NGA) and part 157 of the Commission's Regulations. In Docket No. CP02-396-000, Greenbrier requests a certificate of public convenience and necessity authorizing it to construct, own, operate, and maintain certain pipeline, compression and other facilities. In Docket No. CP02-397-000, Greenbrier requests a blanket certificate pursuant to Subpart G of Part 284 of the Commission's Regulations authorizing Greenbrier to provide open access firm and interruptible transportation services. In Docket No. CP02-398-000, Greenbrier requests a blanket certificate pursuant to Subpart F of Part 157 of the Commission's Regulations to perform certain routine construction, operation, and abandonment activities. Greenbrier's proposals are more thoroughly described in the application on file with the Commission and open to public inspection. This filing may be viewed on the web at http://www.ferc.gov using the “RIMS” link, select “Docket #” and follow the instructions (please call (202) 208-2222 for assistance).

In Docket No. PF01-1-000, Greenbrier participated in a pre-filing National Environmental Policy Act review of its proposed project intended to identify landowner issues and resolve problems before the certificate application was filed. Greenbrier asks the Commission to issue a preliminary determination on non-environmental issues by December 31, 2002 and a final order granting the requested authorizations by June 1, 2003. Greenbrier anticipates placing a portion of the facilities in service by February 1, 2005 for electric generation plant test gas and by May 1, 2005 for general purposes. The entire project is scheduled to be in-service by November 1, 2005.

Any questions regarding Greenbrier's application should be directed to Sean Sleigh, Certificates Manager, Dominion Transmission, Inc., 445 West Main Street, Clarksburg, WV 26301, phone (304) 627-3463 or fax (304) 627-3305.

Greenbrier proposes to construct mainline facilities consisting of: (1) 217 miles of 30-inch pipeline from an interconnect with Dominion Transmission, Inc. and Tennessee Gas Pipeline near Clendenin, WV, to a point in Rockingham County, NC (through Kanawha, Clay, Nicholas, Fayette, Raleigh, Summers, and Mercer Counties, WV, and Giles, Bland, Pulaski, Montgomery, Floyd, Franklin, and Henry Counties, VA); (2) 41 miles of 24-inch pipeline continuing through Rockingham, Caswell, and Person Counties, NC; and (3) about 17.5 miles of 20-inch pipeline from Person County to Granville County, NC. The proposed facilities include three laterals: (1) Approximately 1 mile of 12-inch lateral pipeline in Person County, NC; (2) 2 miles of 10-inch lateral pipeline in Granville County, NC; and (3) approximately ½ mile of 30-inch lateral pipeline in Rockingham County, NC. Greenbrier also proposes to construct a total of 44,980 HP of compression at two sites: (1) 33,145 HP at the proposed Elk River Compressor Station in Kanawha county, WV, and (2) 11,835 HP at the proposed Eden Compressor Station site in Rockingham County, NC. The proposed project's 279 miles of pipeline and two compressor stations will provide up to 600,000 Dth per day of firm transportation service. The estimated cost is approximately $497 million.

The project is said to be designed to create gas supply diversity and to serve the growing energy market in the South Atlantic region, including local distribution companies' growth, new electric power plants, marketers, and others. Greenbrier has entered into 15-year precedent agreements with seven shippers for all of the project's 600,000 Dth per day capacity. The precedent agreements reflect both negotiated rates and recourse rates, and two of the precedent agreements include interim rates for the period during which a portion of the project's facilities will be in early service. Greenbrier states that the only difference between the negotiated rates and the recourse rates its that the negotiated rates include a lower rate of return on equity.

Greenbrier's recourse rates, as stated in its pro forma tariff, include both term differentiated and seasonal rates. For FT contracts of 15 years or greater, the recourse rates are based upon a 15-year levelized cost-of-service. The recourse rates for contracts having a term shorter than 15 years are based on a traditional, first full-year cost-of-service. Seasonal rates are calculated for a summer period (April 1 through October 31) and a winter period (November 1 through March 31).

Rate design | Traditional rate ($/Dth) | Levelized rate ($/Dth)
Winter Reservation Rate | $20.9016 | $17.1753
Winter Daily Rate | 0.6921 | 0.5687
Summer Reservation Rate | 4.9766 | 4.0894
Summer Daily Rate | 0.1628 | 0.1338
Annual Reservation Rate | 11.6120 | 9.5418
Annual Daily Rate | 0.3818 | 0.3137

Greenbrier requests regulatory asset treatment for the differences between its book depreciation and the depreciation component of its levelized firm recourse rates and its initial levelized negotiated rates. Greenbrier also requests that the Commission authorize it to cease calculating AFUDC on certain facilities, at the time those facilities are placed in service early, and capture and defer as a regulatory asset any shortfall in revenue, or as a regulatory liability any excess revenue collected, compared to the cost of service for those facilities placed in service (on or about May 1, 2005) until the entirety of the project is placed in service (on or about November 1, 2005).

There are two ways to become involved in the Commission's review of this project. First, any person wishing to obtain legal status by becoming a party to the proceedings for this project should, on or before July 29, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-17718 Filed 7-12-02; 8:45 am]

BILLING CODE 6717-01-P